DEPARTMENT OF ENERGY

Federal Energy Regulatory Commission

[Docket No. ER00-188-003]

PSI Energy, Inc.; Notice of Supplemental Stipulation and Agreement

October 11, 2001.

Take notice that on October 9, 2001, PSI Energy, Inc. (PSI) tendered for filing with the Federal Energy Regulatory Commission (Commission) a motion to reopen Docket No. ER00-188 and, pursuant to Rule 602(a) of the Commission's Rules of Practice and Procedure, 18 CFR 385.602(a), and an uncontested Supplemental Stipulation and Agreement in this proceeding.

Copies of these filings have been served on the parties.

Pursuant to Rule 602(d)(2) of the Commission's regulations, comments on the Supplemental Stipulation and Agreement should be filed on or before October 29, 2001 and reply comments on or before November 8, 2001.

David P. Boergers,
Secretary.

[FR Doc. 01-26104 Filed 10-16-01; 8:45 am]

BILLING CODE 6717-01-M